DEPARTMENT OF DEFENSE

Department of the Navy

Notice of Intent To Grant Partially Exclusive License; Baltimore Shipping Technologies, L.L.C.

AGENCY: Department of the Navy, DOD.

ACTION: Notice.

SUMMARY: The Department of the Navy gives notice of its intent to grant Baltimore Shipping Technologies, L.L.C., a revocable, nonassignable, partially exclusive license, with exclusive fields of use in intermodal containerized transportation, in the United States to practice the Government-owned invention, U.S. Patent Application Serial Number 10/826,791 entitled “Container, and Related Methods.”

DATES: Anyone wishing to object to the grant of this license must file written objections along with supporting evidence, if any, not later than March 31, 2005.

ADDRESSES: Written objections are to be filed with Indian Head Division, Naval Surface Warfare Center, Code CAB, 101 Strauss Avenue, Indian Head, MD 20640-5035.

FOR FURTHER INFORMATION CONTACT: Dr. J. Scott Deiter, Head, Technology Transfer Office, Naval Surface Warfare Center, Indian Head Division, Code CAB, 101 Strauss Avenue, Indian Head, MD 20640-5035, telephone 301-744-6111.

Dated: March 9, 2005.
I.C. Le Moyne, Jr.,
Lieutenant, Judge Advocate General's Corps, U.S. Navy, Alternate Federal Register Liaison Officer.

[FR Doc. 05-5149 Filed 3-15-05; 8:45 am]

BILLING CODE 3810-FF-P